DEPARTMENT OF DEFENSE

Office of the Secretary

[Docket ID: DoD-2023-OS-0037]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 11, 2023.

ADDRESSES: Written comments and recommendations for the proposed information collection should be sent within 30 days of publication of this notice to www.reginfo.gov/public/do/PRAMain. Find this particular information collection by selecting “Currently under 30-day Review—Open for Public Comments” or by using the search function.

You may also submit comments and recommendations, identified by Docket ID number DoD-2023-OS-0037 and title at http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

FOR FURTHER INFORMATION CONTACT: Angela Duncan, 571-372-7574, whs.mc-alex.esd.mbx.dd-dod-information-collections@mail.mil.

SUPPLEMENTARY INFORMATION: The Active Duty Spouse Survey (ADSS) is the primary source for reliable and generalizable survey data on the effects of military life on military spouses and their families and the effectiveness of current programs and policies. The Office of People Analytics (OPA) will administer the Active Duty Spouse Survey (ADSS) to active duty spouses of Army, Navy, Marine Corps, Air Force, and Space Force members who are below flag rank. This scientific survey is designed to enhance understanding of how spouse and family resilience impact force readiness and retention and inform the effectiveness of programs and policies under the purview of DoD's Military Community and Family Policy (MC&FP) Department. The ADSS provides unique, ongoing, reliable data to equip policymakers with the information they need to make strategic, data-driven decisions on a vital component of the total force—military spouses and families. All active duty spouses who want to share their experiences but were not selected as part of the larger scientific survey will be able to complete a shorter survey hosted online during the same field period.

Title; Associated Form; and OMB Number: Active Duty Spouse Survey; OMB Control Number 0704-0604.

Type of Request: Revision.

Number of Respondents: 11,500.

Responses per Respondent: 1.

Annual Responses: 11,500.

Average Burden per Response: 15 minutes.

Annual Burden Hours: 2,875.

Affected Public: Individuals or households.

Frequency: Biennially.

Respondent's Obligation: Voluntary.

Request for Comments

Comments are invited on: (1) Whether the proposed collection of information is necessary for the proper performance of the functions of DOD, including whether the information collected has practical utility; (2) the accuracy of DOD's estimate of the burden (including hours and cost) of the proposed collection of information; (3) ways to enhance the quality, utility, and clarity of the information to be collected; and (4) ways to minimize the burden of the collection of information on respondents, including automated collection techniques or the use of other forms of information technology.

OMB Desk Officer: Ms. Jasmeet Seehra.

DOD Clearance Officer: Ms. Angela Duncan.

Requests for copies of the information collection proposal should be sent to Ms. Duncan at whs.mc-alex.esd.mbx.dd-dod-information-collections@mail.mil.

Dated: September 6, 2023.
Natalie M. Ragland,
Alternate OSD Federal Register Liaison Officer, Department of Defense.

[FR Doc. 2023-19533 Filed 9-8-23; 8:45 am]

BILLING CODE 5001-06-P